NATIONAL AERONAUTICS AND SPACE ADMINISTRATION

[Notice: (16-046)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations (HEO) Committee of the NASA Advisory Council (NAC). This Committee reports to the NAC.

DATES: Monday, July 25, 2016, 9:30 a.m.-4:30 p.m.; and Tuesday, July 26, 2016, 8:00 a.m.-2:00 p.m., Local Time.

ADDRESSES: Ohio Aerospace Institute, President's Room, 22800 Cedar Point Road, Cleveland, Ohio 44142.

FOR FURTHER INFORMATION CONTACT: Dr. Bette Siegel, Executive Secretary for the NAC HEO Committee, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch-tone phone to participate in this meeting. Any interested person in joining the meeting may dial the toll free access number 1-888-455-6733 or toll access number 1-210-839-8935, and then the numeric participant passcode: 4213809 followed by the #sign. If dialing in, please “mute” your telephone. The WebEx link is https://nasa.webex.com/, the meeting number is 990 997 513, and the password is Exploration@2016 (case sensitive).

The agenda for the meeting includes the following topics:

—Status of Human Exploration and Operations Mission Directorate

—Status of Exploration Systems Development

—Status of International Space Station

—International Space Station Research

—Research Subcommittee Update

—Status of Asteroid Redirect Mission

—System Maturation Teams

—Habitation Module Presentation

—Status of Commercial Crew Program

Attendees will be required to sign a register. It is imperative that the meeting be held on this date to accommodate the scheduling priorities of the key participants.

Patricia D. Rausch,
Advisory Committee Management Officer, National Aeronautics and Space Administration.

[FR Doc. 2016-16181 Filed 7-7-16; 8:45 am]

BILLING CODE 7510-13-P